ENVIRONMENTAL PROTECTION AGENCY

[EPA-HQ-OW-2020-0433; FRL-10020-75-OMS]

Information Collection Request Submitted to OMB for Review and Approval; Comment Request; Public Notification Requirements for Combined Sewer Overflows in the Great Lakes Basin (Renewal)

AGENCY: Environmental Protection Agency (EPA).

ACTION: Notice.

SUMMARY: The Environmental Protection Agency (EPA) has submitted an information collection request (ICR), Public Notification Requirements for Combined Sewer Overflows in the Great Lakes Basin (EPA ICR Number 2562.03, OMB Control Number 2040-0293) to the Office of Management and Budget (OMB) for review and approval in accordance with the Paperwork Reduction Act (PRA). This is a proposed extension of the ICR which is currently approved through April 30, 2021. Public comments were previously requested via the Federal Register on September 2, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 26, 2021.

ADDRESSES: Submit your comments to EPA, referencing Docket ID Number EPA-HQ-OW-2020-0433, online using www.regulations.gov (our preferred method), by email to OW—Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Joshua Baehr, National Program Branch, Water Permits Division, OWM Mail Code: 4203M, Environmental Protection Agency, 1201 Constitution Ave. NW, Washington, DC 20460; telephone number: (202) 564-2277; email address: Baehr.Joshua@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR calculates the incremental increase in burden and costs associated with implementation of the Combined Sewer Overflow (CSO) public notification requirements for CSO permittees in the Great Lakes Basin approved during the Public Notice Requirements for Combined Sewer Overflow Discharges to the Great Lakes rulemaking. In 2018, EPA established public notification requirements for permittees authorized to discharge from a CSO to the Great Lakes Basin [83 FR 712]. These requirements address: (1) Signage; (2) notification to local public health department and other potentially affected public entities; (3) notification to the public; and (4) annual notice. Additionally, permittees are required to develop a public notification plan and seek and consider input on these plans from local public health departments and other potentially affected public entities. The public notification plans also provide state permit writers with detailed information needed to write permit conditions. The rule protects public health by ensuring timely notification to the public and to public health departments, public water systems and other potentially affected public entities, including Indian tribes. It provides additional specificity beyond existing public notification requirements to ensure timely and consistent communication to the public regarding CSO discharges to the Great Lakes Basin. Timely notice may allow the public and affected public entities to take steps to reduce the public's potential exposure to pathogens associated with human sewage, which can cause a wide variety of health effects, including gastrointestinal, skin, ear, respiratory, eye, neurological, and wound infections.

Form Numbers: None.

Respondents/affected entities: CSO permittees in the Great Lakes Basin, Great Lakes States (Illinois, Indiana, Michigan, New York, Ohio, Pennsylvania, and Wisconsin).

Respondent's obligation to respond: Mandatory. 40 CFR 122.38.

Estimated number of respondents: 164 (157 permittees and 7 States).

Frequency of response: Responses include one-time implementation activities, such as signage, activities that occur once per year, such as providing annual notice, and initial and follow-up activities that would occur during and after CSO discharge events.

Total estimated burden: 8,694 hours (per year). Burden is defined at 5 CFR 1320.03(b).

Total estimated cost: $426,059 (per year), includes $5,412 in annualized capital or operation & maintenance costs.

Changes in Estimates: There is an estimated net decrease of 1,607 burden hours since the prior approved ICR. The decrease in labor hours from the prior ICR is due to the completion of capital activities performed during startup performed during the prior ICR. Also, one permittee (Woodville, Ohio NPDES Permit No. OH0020591) separated the city's combined sewer system and therefore, is no longer within the scope of the rule and this updated ICR. There was an increase in labor costs ($31,841) due to a projected increase in labor base wages and total compensation (i.e., benefits). There was a decrease in non-labor costs (−$65,038) due to a decrease in capital costs after the initial startup period of the prior ICR. Overall, total burden hours decreased by 1,607 hours and total burden cost decreased by $31,048 for the three-year period.

Courtney Kerwin,
Director, Regulatory Support Division.

[FR Doc. 2021-03794 Filed 2-23-21; 8:45 am]

BILLING CODE 6560-50-P